DEPARTMENT OF TRANSPORTATION

Federal Aviation Administration

Notice of Intent To Rule on Application 03-05-C-00-LEB To Impose and Use the Revenue From a Passenger Facility Charge (PFC) at Lebanon Municipal Airport, Lebanon, NH

AGENCY: Federal Aviation Administration (FAA), DOT.

ACTION: Notice of intent to rule on application.

SUMMARY: The FAA proposes to rule and invites public comment on the application to impose and use the revenue from a PFC at Lebanon Municipal Airport under the provisions of the 49 U.S.C. 40117 and part 158 of the Federal Aviation Regulations (14 CFR part 158).

DATES: Comments must be received on or before June 23, 2003.

ADDRESSES: Comments on this application may be mailed or delivered in triplicate to the FAA at the following address: Ms. Priscilla Scott, PFC Program Manager, Federal Aviation Administration, Airports Division, 12 New England Executive Park, Burlington, Massachusetts 01803.

In addition, one copy of any comments submitted to the FAA must be mailed or delivered to Timothy J. Edwards, Airport Manager of the Lebanon Municipal Airport at the following address: 5 Airpark Road, West Lebanon, New Hampshire 03784.

Air carriers and foreign air carriers may submit copies of written comments previously provided to the City of Lebanon under section 158.23 of part 158.

FOR FURTHER INFORMATION CONTACT: Priscilla Scott, PFC Program Manager, Federal Aviation Administration, Airports Division, 12 New England Executive Park, Burlington, Massachusetts 01803, (781) 238-7614. The application may be reviewed in person at 16 New England Executive Park, Burlington, Massachusetts.

SUPPLEMENTARY INFORMATION: The FAA proposes to rule and invites public comment on the application to impose and use the revenue from a PFC at Lebanon Municipal Airport under the provisions of the 49 U.S.C. 40117 and Part 158 of the Federal Aviation Regulations (14 CFR part 158).

On May 12, 2003, the FAA determined that the application to impose and use the revenue from a PFC submitted by City of Lebanon was substantially complete within the requirements of section 158.25 of part 158. The FAA will approve or disapprove the application, in whole or in part, no later than August 12, 2003.

The following is a brief overview of the application.

Proposed charge effective date: October 1, 2003.

Proposed charge expiration date: April 1, 2006.

Level of the proposed PFC: $4.50.

Total estimated PFC revenue: $63,774.

Brief description of proposed project(s):

Purchase Snow Removal Equipment (Loader)

Hazard Beacon Winch Acquisition

Security System Upgrade

Environmental Assessment

Purchase Snow Removal Equipment (Plow Truck)

Airport Terminal Building Renovations

PFC Administration

Class or classes or air carriers, which the public agency has requested, not be required to collect PFCs: ATCO—Nonscheduled/On-Demand Air Carriers.

Any person may inspect the application in person at the FAA office listed above under FOR FURTHER INFORMATION CONTACT.

In addition, any person may, upon request, inspect the application, notice and other documents germane to the application in person at the City of Lebanon, Lebanon Municipal Airport.

Issued in Burlington, Massachusetts on May 13, 2003.
Vincent A. Scarano,
Manager, Airports Division, New England Region.

[FR Doc. 03-13050 Filed 5-22-03; 8:45 am]

BILLING CODE 4910-13-M